NATIONAL ARCHIVES AND RECORDS ADMINISTRATION

[NARA-2015-029]

Agency Information Collection Activities: Proposed Collection; Comment Request

AGENCY: National Archives and Records Administration (NARA).

ACTION: Notice.

SUMMARY: NARA proposes to request extension of a currently approved information collection used to identify potential grant recipients that have limited experience with managing Federal funds. NARA invites the public to comment on the proposed information collection pursuant to the Paperwork Reduction Act of 1995.

DATES: We must receive written comments by April 20, 2015 for consideration.

ADDRESSES: Please send comments by mail to Paperwork Reduction Act Comments (NHP); Room 4400; National Archives and Records Administration; 8601 Adelphi Rd.; College Park, MD 20740-6001, by fax to 301-713-7409, or by email to tamee.fechhelm@nara.gov.

FOR FURTHER INFORMATION CONTACT: Please contact Tamee Fechhelm by telephone at 301-837-1694, or by fax at 301-713-7409 to request additional information or copies of the proposed information collections and supporting statements.

SUPPLEMENTARY INFORMATION: Pursuant to the Paperwork Reduction Act of 1995 (Pub. L. 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; (d) ways to minimize the burden of the collection of information on all respondents, including the use of information technology; and (e) whether small businesses are affected by this collection. NARA will summarize any comments you submit and include them in the NARA request for Office of Management and Budget (OMB) approval. All comments will become a matter of public record. In this notice, NARA is soliciting comments concerning the following information collections:

Title: Accounting System and Financial Capability Questionnaire.

OMB number: 3095-0072.

Agency form numbers: NA Form 17003.

Type of review: Regular.

Affected public: Not-for-profit institutions and State, Local, or Tribal Government.

Estimated number of respondents: 75.

Estimated time per response: 4 hours.

Frequency of response: On occasion.

Estimated total annual burden hours: 300.

Abstract: Pursuant to the Title 2, Section 215 of the Code of Federal Regulations, Grants and Agreements with Institutions of Higher Education, Hospitals, and Other Non-Profit Organizations (formerly Office of Management and Budget (OMB) Circular A-110) and Office of Management and Budget Circular A-133, Audits of States, Local Governments, and Non-Profit Organizations, grant recipients are required to maintain adequate accounting controls and systems in managing and administering Federal funds. Some of the recipients of grants from the National Historical Publications and Records Commission (NHPRC) have proven to have limited experience with managing Federal funds. This questionnaire is designed to identify those potential recipients and provide appropriate training or additional safeguards for Federal funds. Additionally, the questionnaire serves as a pre-audit function in identifying potential deficiencies and minimizing the risk of fraud, waste, abuse, or mismanagement, which we use in lieu of a more costly and time consuming formal pre-award audit.

Dated: February 6, 2015.
Swarnali Haldar,
Executive for Information Services/CIO.

[FR Doc. 2015-03363 Filed 2-17-15; 8:45 am]

BILLING CODE 7515-01-P